DEPARTMENT OF HOMELAND SECURITY

Coast Guard

33 CFR Part 117

[Docket No. USCG-2016-0814]

Drawbridge Operation Regulation; Trent River, New Bern, NC

AGENCY: Coast Guard, DHS.

ACTION: Notice of deviation from drawbridge regulation.

SUMMARY: The Coast Guard has issued a temporary deviation from the operating schedule that governs the U.S. 70/Alfred A. Cunningham Bridge across the Trent River, mile 0.0, at New Bern, NC. The deviation is necessary to facilitate safe participation in the Multiple Sclerosis Society's Historic New Bern Bike Ride. This deviation allows the bridge to remain in the closed-to-navigation position.

DATES: The deviation is effective from 8 a.m. on Saturday, September 10, 2016, to 9:30 a.m. Sunday, September 11, 2016.

ADDRESSES: The docket for this deviation, [USCG-2016-0814] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The North Carolina Department of Transportation, who owns and operates the U.S. 70/Alfred A. Cunningham Bridge, has requested a temporary deviation from the current operating regulations set out in 33 CFR 117.843(a), to ensure the safety of the cyclists and spectators that are associated with the Multiple Sclerosis Society's Historic New Bern Bike Ride.

Under this temporary deviation, the bridge will be maintained in the closed position from 8 a.m. to 9:30 a.m. on Saturday, September 10, 2016, and from 8 a.m. to 9:30 a.m. on Sunday, September 11, 2016. The bridge is a double bascule drawbridge and has a vertical clearance in the closed position of 14 feet above mean high water.

The Trent River is used by small commercial vessels and recreational vessels. The Coast Guard has carefully considered the nature and volume of vessel traffic in publishing this temporary deviation.

Vessels able to pass through the bridge in the closed position may do so at any time. The bridge will be able to open in case of emergencies, there is no immediate alternative route for vessels to pass. The Coast Guard will also inform the users of the waterway through our Local and Broadcast Notice to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 17, 2016.
Hal R. Pitts,
Bridge Program Manager, Fifth Coast Guard District.

[FR Doc. 2016-20232 Filed 8-23-16; 8:45 am]

BILLING CODE 9110-04-P